DEPARTMENT OF LABOR

Employment and Training Administration

[NAFTA-02634]

Condor DC Power Supplies, Inc., The Todd Products Group, Brentwood, New York; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on November 9, 1998, applicable to all workers of Todd Products Corporation located in Brentwood, New York. The notice was published in the Federal Register on December 4, 1998 (63 FR 67141).

At the request of the company, the Department reviewed the certification for workers of the subject firm. The workers are engaged in the production of electronic power supply devices. New information received from the company shows that in July, 1999, Condor DC Power Supplies, Inc., purchased Todd Products Corporation and became know as Condor DC Power Supplies, Inc., The Todd Products Group. Information also shows that workers separated from employment at Todd Products Corporation had their wages reported under a separate unemployment insurance (UI) tax account for Condor DC Power Supplies, Inc., The Todd Products Group.

Accordingly, the Department is amending the certification to properly reflect this matter.

The intent of the Department's certification is to include all workers of Todd Products Corporation who were adversely affected by the shift of production to Mexico.

The amended notice applicable to NAFTA—02634 is hereby issued as follows:

“All workers of Condor DC Power Supplies, Inc., The Todd Products Group, Brentwood, New York who became totally or partially separated from employment on or after September 15, 1997 through November 9, 2000 are eligible to apply for NAFTA-TAA under Section 250 of the Trade Act of 1974.”

Signed at Washington, DC this 10th day of March, 2000.
Grant D. Beale,
Program Manager, Division of Trade Adjustment Assistance.

[FR Doc. 00-7116 Filed 3-21-00; 8:45 am]

BILLING CODE 4510-30-M